DEPARTMENT OF AGRICULTURE

Forest Service

Eastern Washington Cascades Provincial Advisory Committee and the Yakima Provincial Advisory Committee

AGENCY: Forest Service, USDA.

ACTION: Notice of meeting.

SUMMARY: The Eastern Washington Cascades Provincial Advisory Committee and the Yakima Provincial Advisory Committee will meet on Wednesday, January 12, 2005, at the Okanogan and Wenatchee National Forests headquarters office, 215 Melody Lane, Wenatchee, Washington. The meeting will begin at 9 a.m. and continue until 3 p.m. During this meeting we will share information on new developments relating to the Northwest Forest Plan, learn about Hungry Hunter Stewardship Bidding results, discuss recreating planning for the Hungry Hunter area, and receive input on the White Pass Ski Area Expansion Draft Environmental Impact Statement. All Eastern Washington Cascades and Yakima Province Advisory Committee meetings are open to the public.

FOR FURTHER INFORMATION CONTACT: Direct questions regarding this meeting to Paul Hart, Designated Federal Official, USDA, Wenatchee National Forest, 215 Melody Lane, Wenatchee, Washington 98801, 509-664-9200.

Dated: December 17, 2004.
Paul Hart,
Designated Federal Official, Okanogan and Wenatchee National Forests.

[FR Doc. 04-28246 Filed 12-27-04; 8:45 am]

BILLING CODE 3410-11-M